DEPARTMENT OF HOMELAND SECURITY

U.S. Customs and Border Protection

Approval of Petrospect, Inc., as a Commercial Gauger

AGENCY: U.S. Customs and Border Protection, Department of Homeland Security.

ACTION: Notice of approval of Petrospect, Inc., as a commercial gauger.

SUMMARY: Notice is hereby given that, pursuant to the CBP regulations, that Petrospect, Inc., has been approved to gauge petroleum, petroleum products, organic chemicals and vegetable oils for customs purposes for the next three years as of July 24, 2012.

DATES: Effective Dates: The approval of Petrospect, Inc., as commercial gauger became effective on July 24, 2012. The next triennial inspection date will be scheduled for July 2015.

FOR FURTHER INFORMATION CONTACT: Dr. Jonathan McGrath, Laboratories and Scientific Services, U.S. Customs and Border Protection, 1331 Pennsylvania Avenue NW., Suite 1500N, Washington, DC 20229, 202-344-1060.

SUPPLEMENTARY INFORMATION: Notice is hereby given that, pursuant to 19 CFR 151.13, Petrospect, Inc., 499 N. Nimitz Pier 21, Honolulu, HI 96817, has been approved to gauge petroleum, petroleum products, organic chemicals and vegetable oils for customs purposes, in accordance with the provisions of 19 CFR 151.13. Anyone wishing to employ this entity to conduct gauger services should request and receive written assurances from the entity that it is approved by the U.S. Customs and Border Protection to conduct the specific gauger service requested. Alternatively, inquires regarding the specific gauger service this entity is approved to perform may be directed to the U.S. Customs and Border Protection by calling (202) 344-1060. The inquiry may also be sent to cbp.labhq@dhs.gov. Please reference the Web site listed below for a complete listing of CBP approved gaugers and accredited laboratories. http://www.cbp.gov/linkhandler/cgov/trade/basic_trade/labs_scientific_svcs/commercial_gaugers/gaulist.ctt/gaulist.pdf.

Dated: December 21, 2012.
Ira S. Reese,
Executive Director, Laboratories and Scientific Services.

[FR Doc. 2013-01888 Filed 1-28-13; 8:45 am]

BILLING CODE 9111-14-P